ENVIRONMENTAL PROTECTION AGENCY

[FRL-7994-3]

Protection of Stratospheric Ozone: Notice of Data Availability; Information Concerning the Current and Predicted Use of HCFC-22 and HCFC-142b

AGENCY: Environmental Protection Agency (EPA).

ACTION: Notice of data availability and request for comment.

SUMMARY: The Environmental Protection Agency (EPA) is making available to the public information concerning the current and projected use of HCFC-22 and HCFC-142b, substances known to deplete stratospheric ozone and scheduled to be phased out. As a Party to the Montreal Protocol on Substances that Deplete the Ozone Layer (“Montreal Protocol”) and consistent with the requirements of the Clean Air Act Amendments of 1990 (“CAAA of 1990”), the United States will meet its obligations to protect stratospheric ozone, including the phasing out of all hydrochlorofluorocarbons (HCFCs). The next major milestone for the HCFC phaseout occurs on January 1, 2010, when, pursuant to EPA regulations, no person may produce HCFC-22 or HCFC-142b except: for use in a process that results in the transformation or the destruction of the HCFCs; for use in equipment manufactured before January 1, 2010; or for export using either Article 5 allowances or export production allowances. In addition, no person may import HCFC-22 or HCFC-142b other than transshipments, heels, or used HCFC-22 or HCFC-142b except: for use in a process that results in the transformation or destruction of the HCFCs; or for use in equipment manufactured prior to January 1, 2010. EPA plans to issue regulations before January 1, 2010, to set the level of the cap on production and import of HCFC-22 and HCFC-142b that would go into effect on that date. Comments submitted in response to today's Notice of Data Availability (NODA) may be used as the Agency prepares that rulemaking.

Today, EPA is making available the report The U.S. Phaseout of HCFCs: Projected Servicing Needs in the U.S. Air-Conditioning and Refrigeration Sector, prepared by ICF Consulting. The information gathered and presented in the report concerns air-conditioning end uses, refrigeration end-uses, HCFC refrigerants, projected HCFC-22 scenarios, equipment beyond 2010, servicing needs beyond 2010, and factors that affect projections. Because EPA plans to use this information in the future when developing regulations, EPA wants to provide the public with an opportunity to review the information and submit comments. Readers should note that EPA will only consider comments about the information presented in The U.S. Phaseout of HCFCs: Projected Servicing Needs in the U.S. Air-Conditioning and Refrigeration Sector and is not soliciting comments on any other topic. In particular, EPA is not soliciting comments on the HCFC phaseout established in EPA's December 10, 1993, rulemaking (58 FR 65018).

DATES: EPA will accept comments on the data through January 3, 2006.

ADDRESSES: Submit your comments, identified by EDocket ID No. OAR-2003-0130 by one of the following methods:

• Federal eRulemaking Portal: http://www.regulations.gov. Follow the on-line instructions for submitting comments.

• Agency Web site: http://www.epa.gov/edocket. EDocket, EPA's electronic public docket and comment system, is EPA's preferred method for receiving comments. Follow the on-line instructions for submitting comments.

• Fax comments to (202) 566-1741.

• Mail/Hand delivery: Submit comments to Air and Radiation Docket at EPA West, 1301 Constitution Avenue, NW., Room B108, Mail Code 6102T, Washington, DC 20460, and Phone: (202) 566-1742.

Instructions: Direct your comments to EDocket ID No. OAR-2003-0130. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the Federal regulations.gov Web sites are “anonymous access” systems, which means EPA will not know your identity or contact information unless you provide it in the body of your comment.

If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Air and Radiation Docket EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Cindy Axinn Newberg, EPA, Stratospheric Protection Division, Office of Atmospheric Programs, Office of Air and Radiation (6205J), 1200 Pennsylvania Avenue, NW., Washington, DC 20460, (202) 343-9729 or e-mail: newberg.cindy@epa.gov.

SUPPLEMENTARY INFORMATION:

Outline

1. What is today's Action?

2. What information is EPA making available for review and comment?

3. Where can I get the information?

4. How is this action related to the phaseout of ozone-depleting substances?

5. What should I consider as I prepare my comments for EPA?

6. What is EPA not taking comment on?

7. What supporting documentation do I need to include in my comments?

8. Will there be other opportunities to provide comment on the information?

1. What is today's Action?

EPA is issuing a NODA for public review and comment. In order to meet U.S. obligations under the Montreal Protocol and consistent with the CAAA of 1990, EPA is implementing a gradual phase out of HCFCs that targets the most damaging HCFCs first. Interested readers may wish to review previously published Federal Register notices concerning the HCFC allowance system: the Final Rule (January 21, 2003; 68 FR 2819), the Proposed Rule (July 20, 2001; 66 FR 38063), the Direct Final Rule (June 17, 2004; 69 FR 34024), the Technical Correction of Final Rule (July 16, 2003; 68 FR 41925), and the Advanced Notice of Proposed Rule Making (April 5, 1999; 64 FR 16373). For more information on the HCFC phaseout schedule, readers may consult the December 10, 1993 Federal Register notice that established the current phaseout dates (58 FR 65018), as well as the March 18, 1993 Proposed Rule (58 FR 15014). The next major milestone for the phaseout is on January 1, 2010, when no person may produce HCFC-22 or HCFC-142b for any purpose other than:

• For use in a process resulting in the transformation or the destruction of the HCFCs,

• For use in equipment manufactured before January 1, 2010, or

• For export using either Article 5 allowances or export production allowances.

In addition, no person may import HCFC-22 or HCFC-142b other than transshipments, heels or used HCFC-22 or HCFC-142b for any purpose other than:

• For use in a process resulting in the transformation or destruction of the HCFCs, or

• For use in equipment manufactured prior to January 1, 2010.

EPA intends to issue regulations prior to January 1, 2010 to set the level of the cap on production and import of HCFC-22 and HCFC-142b that will go into effect on that date. The level of the cap will take into account the needs described above.

Today, EPA is making available information concerning current and projected uses of HCFC-22 and HCFC-142b, the likely universe of equipment manufactured before January 1, 2010 that may require servicing with HCFC-22 or HCFC-142b between 2010 and 2020, and information concerning the likely servicing needs for that equipment between 2010 and 2020. This analysis focuses primarily on HCFC-22 (also known as R-22) servicing needs in the air-conditioning and refrigeration industry, the largest HCFC market and the largest industry sector using HCFCs in the United States.

2. What information is EPA making available for review and comment?

EPA is making available for review and comment a draft report prepared by ICF Consulting under contract to EPA, The U.S. Phaseout of HCFCs: Projected Servicing Needs in the U.S. Air-Conditioning and Refrigeration Sector.

3. Where can I get the information?

All of the information can be obtained through the Air Docket (see ADDRESSES section above for docket contact info). A link to the report The U.S. Phaseout of HCFCs: Projected Servicing Needs in the U.S. Air-Conditioning and Refrigeration Sector will be on the EPA Web site: www.epa.gov/ozone.

4. How is this action related to the phaseout of ozone-depleting substances?

The table below summarizes the U.S. phaseout schedule for HCFCs, as set forth in EPA regulations to ensure compliance with both the Montreal Protocol and the CAAA of 1990. Readers should consult the regulations at 40 CFR 82.16 for further details (e.g., exceptions for amounts produced for export using certain specialized types of allowances).

HCFC Phaseout Schedule
Date | Affected substances | Restriction
Jan. 1, 2003 | HCFC-141b | No production and no import of HCFC-141b.
Jan. 1, 2010 | HCFC-142b, HCFC-22 | No production and no import of HCFC-142b and HCFC-22, except for use in equipment manufactured before 1/1/2010.
Jan. 1, 2015 | All Other HCFCs | No production and no import of any other HCFCs, except for use as a refrigerant in equipment manufactured before 1/1/2020.
Jan. 1, 2020 | HCFC-142b, HCFC-22 | No production and no import of HCFC-142b and HCFC-22.
Jan. 1, 2030 | All Other HCFCs | No production and no import of any HCFCs.

The information made available today concerns projections that will assist EPA as it prepares to propose regulation concerning the January 1, 2010 milestone.

5. What should I consider as I prepare my comments for EPA?

You may find the following suggestions helpful for preparing your comments:

1. Explain your views as clearly as possible.

2. Describe any assumptions that you used.

3. Provide any technical information or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

6. What is EPA not taking comment on?

EPA is only accepting comments on accuracy and completeness of the information outlined in today's Federal Register Notice and contained in the report The U.S. Phaseout of HCFCs: Projected Servicing Needs in the U.S. Air-Conditioning and Refrigeration Sector. EPA is not accepting comment on the following:

• HCFC phaseout established in EPA's December 10, 1993 rulemaking (58 FR 65018),

• The Allowance System for Controlling HCFC Production, Import and Export, or

• The commitments of the U.S. as a Party to the Montreal Protocol.

7. What supporting documentation do I need to include in my comments?

Please provide any published studies or raw data supporting your position.

8. Will there be other opportunities to provide comment on the information?

EPA may schedule a public meeting for stakeholders concerning the report, The U.S. Phaseout of HCFCs: Projected Servicing Needs in the U.S. Air-Conditioning and Refrigeration Sector, after January 3, 2006 to continue a dialogue regarding the information presented in the report. If a public meeting is scheduled, information concerning that meeting will be available on the EPA Web site: www.epa.gov/ozone.

Dated: October 27, 2005.
Edward Callahan,
Acting Director, Office of Atmospheric Programs, Office of Air and Radiation, U.S. Environmental Protection Agency.

[FR Doc. 05-22036 Filed 11-3-05; 8:45 am]

BILLING CODE 6560-50-P